DEPARTMENT OF COMMERCE

National Oceanic and Atmospheric Administration

[RTID 0648-XC836]

Marine Mammals; File No. 27066

AGENCY: National Marine Fisheries Service (NMFS), National Oceanic and Atmospheric Administration (NOAA), Commerce.

ACTION: Notice; receipt of application.

SUMMARY: Notice is hereby given that the NMFS Northeast Fisheries Science Center, 166 Water Street, Woods Hole, Massachusetts 02543 (Responsible Party: Jon Hare), has applied in due form for a permit to conduct research on marine mammals.

DATES: Written, telefaxed, or email comments must be received on or before April 14, 2023.

ADDRESSES: The application and related documents are available for review by selecting “Records Open for Public Comment” from the “Features” box on the Applications and Permits for Protected Species (APPS) home page, https://apps.nmfs.noaa.gov, and then selecting File No. 27066 from the list of available applications. These documents are also available upon written request via email to NMFS.Pr1Comments@noaa.gov.

Written comments on this application should be submitted via email to NMFS.Pr1Comments@noaa.gov. Please include File No. 27066 in the subject line of the email comment.

Those individuals requesting a public hearing should submit a written request via email to NMFS.Pr1Comments@noaa.gov. The request should set forth the specific reasons why a hearing on this application would be appropriate.

FOR FURTHER INFORMATION CONTACT: Shasta McClenahan, Ph.D., or Carrie Hubard, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The applicant requests a 5-year research permit to determine the abundance, distribution, movement patterns, dive behavior, demographic parameters, trends in recruitment, and stock structure of cetaceans in U.S. waters of the western North Atlantic from Florida to Maine, and Canadian waters in the Bay of Fundy and Scotian Shelf. Up to 38 species of cetaceans may be taken during research including the following endangered species: blue (Balaenoptera musculus), bowhead (Balaena mysticetus), fin (Balaenoptera physalus), gray (Western North Pacific; Eschrichtius robustus), North Atlantic right (Eubalaena glacialis), sei (Balaenoptera borealis), and sperm (Physeter macrocephalus) whales. Research methods during vessel and aerial (manned and unmanned) surveys will include counts, photo-identification, video recording, photogrammetry, passive acoustic recording, observations, thermal imaging, biological sampling (skin and blubber biopsy, sloughed skin, feces, and exhaled air), and tagging (suction-cup and dart tags). Dart tags may include short Type C tags that anchor in the blubber of large whales. Receipt, import, and export of marine mammal parts would also be authorized for research purposes. Four species of non-ESA listed pinnipeds may be unintentional harassed and opportunistically studied during cetacean research. See the application for complete numbers of animals requested by species, life stage, and procedure.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: March 8, 2023.
Amy Sloan,
Acting Chief, Permits and Conservation Division, Office of Protected Resources, National Marine Fisheries Service.

[FR Doc. 2023-05262 Filed 3-14-23; 8:45 am]

BILLING CODE 3510-22-P